ENVIRONMENTAL PROTECTION AGENCY

[Docket ID No. EPA-HQ-ORD-2004-0018; FRL-8225-9]

Air Quality Criteria for Lead

AGENCY: Environmental Protection Agency (EPA).

ACTION: Notice of availability.

SUMMARY: EPA is announcing the availability of a document titled, “Air Quality Criteria for Lead” (EPA/600/R-05/144aC-bC) (AQCD for Lead). The document was prepared by the National Center for Environmental Assessment (NCEA) within EPA's Office of Research and Development.

ADDRESSES: The “Air Quality Criteria for Lead” will be available primarily via the Internet on the National Center for Environmental Assessment's home page under the Recent Additions and Publications menus at http://www.epa.gov/ncea. A limited number of CD-ROM or paper copies will be available. Contact Ms. Diane Ray by phone (919-541-3637), fax (919-541-1818), or e-mail (ray.diane@epa.gov) to request either of these, and please provide your name, your mailing address, and the document title, “Air Quality Criteria for Lead” (EPA/600/R-05/144aC-bC) to facilitate processing of your request.

FOR FURTHER INFORMATION CONTACT: For technical information, contact Lori White, PhD, NCEA; telephone: 919-541-3146; facsimile: 919-541-1818; or e-mail: white.lori@epa.gov.

SUPPLEMENTARY INFORMATION: Section 108(a) of the Clean Air Act directs the Administrator to identify certain air pollutants, which “may reasonably be anticipated to endanger public health and welfare” and to issue air quality criteria for them. These air quality criteria are to “accurately reflect the latest scientific knowledge useful in indicating the kind and extent of all identifiable effects on public health or welfare which may be expected from the presence of [a] pollutant in the ambient air * *. *.” Under section 109 of the Act, EPA is then to establish National Ambient Air Quality Standards (NAAQS) for each pollutant for which EPA has issued criteria. Section 109(d) of the Act requires subsequent periodic review and, if appropriate, revision of existing air quality criteria to reflect advances in scientific knowledge on the effects of the pollutant on public health and welfare. EPA is also to revise the NAAQS, if appropriate, based on the revised criteria.

Lead is one of six “criteria” pollutants for which EPA has established air quality criteria and NAAQS. On November 9, 2004 (69 FR 64926), EPA formally initiated its current review of the criteria and NAAQS for lead, requesting the submission of recent scientific information on specified topics. A draft of EPA's “Project Work Plan for Revised Air Quality Criteria for Lead” (NCEA-R-1465) was released on January 7, 2005, for public comment (70 FR 1439) and was discussed by the Clean Air Scientific Advisory Committee (CASAC) via a publicly accessible teleconference consultation on March 28, 2005 (70 FR 11629). On July 15, 2005 (70 FR 41007), several workshops were announced to discuss, with invited recognized scientific experts, initial draft materials that dealt with various lead-related issues being addressed in the draft AQCD for lead. These workshops were held August 4-5, 16-18, and 17-19, 2005. Availability of the first external review draft of the Air Quality Criteria for Lead (EPA/600/R-05/144aA-bA), was announced in the Federal Register on December 2, 2005 (70 FR 72300). The CASAC Lead Review Panel reviewed the first external review draft at a public meeting on February 28 and March 1, 2006.

EPA considered comments of the CASAC review panel and the public in revising the draft AQCD for lead. Availability of the second external review draft of the Air Quality Criteria for Lead (EPA/600/R-05/144aB-bB), was announced in the Federal Register on May 19, 2006 (71 FR 29152). The CASAC Lead Review Panel reviewed the second external review draft at a public meeting on June 28, 2006. EPA provided revised Integrative Synthesis and Executive Summary chapters of the draft AQCD for Lead to the public and CASAC for review in July 2006. The CASAC Lead Review Panel met via a publicly accessible teleconference on August 15, 2006, to review these revised chapters (71 FR 40516). EPA has considered the comments of the CASAC Lead Review Panel and of the public in preparing the final Air Quality Criteria for Lead.

Dated: September 25, 2006.
George W. Alapas,
Acting Director, National Center for Environmental Assessment.

[FR Doc. E6-16060 Filed 9-28-06; 8:45 am]

BILLING CODE 6560-50-P